DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending December 31, 2006.

Last name | First name | Middle name/initials
CLARKE | CAROLINE |
BOYKO | DENNIS |
TO | BENJAMIN | NGAI M.
SINGH | JAYANT | K.
CHAN | YAU | WING
CHAN | ANITA | WAI LING
PEASE | VICTORIA | ELAINE
MCMILLAN | FIONA | MICHELLE
RASMUSSEN | ERIKA | M.
NUSSBAUMER | MAX | RAINER
NUSSBAUMER | EVA | ELISABETH
NUSSBAUMER | WALTER | KARL OTTO
MELING | MARIAN | CRONIN
HIRSCH | STEVEN | RICHARD
MATSUNO | SHIHO |
TIEN | CALVIN | FRANCIS
SUEN | DAVID | TOI WAI
BUNEMAN | O | PETER
WONG | KWOK | YING
MIRO | ROGELIO | G.
JAGGI-BURGER | MAYA |
BURGER | CATHERINE |
HUSTON | RICHARD |
FRASER | LUCY |
STEVENS | ANDREW | DAVID
ANTAYA | KENNETH | FRANCIS
ANTAYA | MARGARET | FAY
THOMSON | GRANT | C.
HAYDEN | ARTHUR | E.
THOMSON | COLLEEN | D.
THOMSON | NICOLE | L.
THOMSON | BRENNA | M.
OJJEH | SARA |
BELT | MARCELLINUS | W.
TSUI | KWOK | FUNG D.
DOBRA | NILUFER |
WU | NANCY | BING YUN
ENCARNACION | BENJAMIN | S.
VOLPE | SANTO |
PENMAN | JEFFREY | D.
YEUNG | SOLOMON | TO LING
YEUNG | CECILIA | DIP YEE
LAM | EDWARD | S.
WINE | BEATRICE | E.
RUANE | JOHN | P.
JONKER-PANIS | SUZANNE | H.
JONKER | FRANCISCUS | A.
CHAN | SUM | CHU LEE
PENMAN | RICHARD |
PENMAN | ANNE | V.
GRAHAM | OLIVER | J.
LAW | KA | LOK
BAHREMAND | RAMIN |
HAAG | ANTHONY |
SCHOLL | STEFAN |
PASHA | NAJDAT | I.
CHARITOS | LEONIDAS |
SAKAI | YOKO |
NAKAZAWA | TOSHIYUKI |
HIRSCH | MARTIN | J.
CHEN | ANNIE | A. Y.
DESOUTTER | ANTHONY |
SCOTT | MICHAEL | DAVID
BOOTH | PATRICIA | A.
SOLER | ROBERTO | A.
NARGOLWALA | KAIKHUSHRU | SHIAVAX
PANOZ | DONALD | E.
CHIU | SHIRLEY | LAI LING
RUSSELL | JONATHON | CHARLES
AU | JASON | O.
BURNLEY | ROGER | LEON
IMHOOF | CLAUDE | R.
REDDY | MUNI | KRISHNA T.
WATSON | LORRAINE | ELISE
FARRELL | SEAN | T.
PAREKH | NIMIL | R.
ELLISTON | EDGAR |
BRAUNSCHWEITZER | LUKAS |
BRAUNSCHWEITZER | GABRIELLE | S.
TIMMERMANN | WILLIAM | FREDERICK
NAVABI | KOUSHNA |
BANKS | ALISTAIR | GLOVER
HUANG | HUI MEI |
HUEBNER | ANNELLESE |
MANERA | DAVID | RICHARD
YENSEN | GABRIELLE |
TAN | ANSEL | TSU MINH
CLARKE | CAROLINE | LOUISE
SVENSSON | ULF |
RICHARDSON | ALLEN |
HESTER | MARILYN | JOYCE
HESTER | WILLIAM | FAUGHN
LONCARIC | BORAN |
LAU | JOSEPH | SI-SING
HO | LAURA | M.
SAKSLUND | HENNING |
KATZER | YVONNE | L.
NUSSBAUMER | GEORG | MARKUS
RAWLES | HILARY | LYNNE
RAWLES | IAN |
JONES | ALEXANDRA | DONALDSON
ATKINS | TIMOTHY | R.
GUEST | CHRISTOPHER |
BARTON | MONICA | D.
RAMCHANDRAN | GANESH |
GWERDER | MICHELE |

Dated: January 18, 2007.
Angie Kaminski,
Examinations Operations, Philadelphia Compliance Services.

[FR Doc. E7-1692 Filed 2-1-07; 8:45 am]

BILLING CODE 4830-01-P